DEPARTMENT OF HEALTH AND HUMAN SERVICES

National Institutes of Health

Center for Scientific Review; Amended Notice of Meeting

Notice is hereby given of a change in the meeting of the Hemostasis and Thrombosis Study Section, June 22, 2006, 8:30 a.m. to June 23, 2006, 6 p.m., Doubletree Hotel and Executive Meeting Center, 8120 Wisconsin Avenue, Bethesda, MD 20814, which was published in the Federal Register on May 11, 2006, 71 FR 27505-27507.

The meeting will be held at the Carlyle Suites, 1731 New Hampshire Avenue, NW., Washington, DC 20009. The meeting dates and time remain the same. The meeting is closed to the public.

Dated: May 25, 2006.
Anna Snouffer,
Acting Director, Office of Federal Register Committee Policy.

[FR Doc. 06-5062 Filed 6-1-06; 8:45 am]

BILLING CODE 4140-01-M